DEPARTMENT OF TRANSPORTATION

Office of the Secretary

Notice of Applications for Certificates of Public Convenience and Necessity and Foreign Air Carrier Permits Filed Under Subpart B (Formerly Subpart Q) During the Week Ending May 2, 2003

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-15095.

Date Filed: May 1, 2003.

Due Date for Answers, Conforming Applications, or Motion to Modify Scope: May 22, 2003.

Description: Application of Sun D'or International Airlines Ltd., pursuant to 49 U.S.C. 41302 et seq., and subpart B, requesting a foreign air carrier permit to engage in charter foreign air transportation of persons, property, and mail between a point or points in Israel, on the one hand, and Orlando, FL or Las Vegas, NV, on the other.

Dorothy Y. Beard,
Chief, Docket Operations & Media Management, Federal Register Liaison.

[FR Doc. 03-11776 Filed 5-12-03; 8:45 am]

BILLING CODE 4910-62-U